DEPARTMENT OF DEFENSE

Department of the Army

Army Science Board 2008 Summer Study Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3. 140 through 160), the Department of the Army announces the following committee meeting:

Name of Committee: Army Science Board (ASB).

Date(s) of Summer Study Meeting: July 14-24, 2008.

Time(s) of Meeting: 0800-1700, July 14, 2008. 0800-1500, July 23, 2008.

Place of Meeting: Arnold and Mabel Beckman Center, 100 Academy Drive, Irvine, CA 92617.

FOR FURTHER INFORMATION CONTACT: For information on the Persistent Communications, Surveillance, and Reconnaissance (CSR) and LandWarNet 2 studies, contact Ms. Anorme Anim, 703-604-7465; for information on the Information Operations study, contact LTC James Mayer, 703-695-4627; for information on the Generating Force Consensus study, contact Mr. Justin Bringhurst, 703-604-7468; for information on the Institutionalization of Innovative Army Organizations study, contact MAJ Stephen Thomas, 865-574-8898. Army Science Board Studies Coordinator: Ms. Vivian Baylor, 703-604-7472.

SUPPLEMENTARY INFORMATION: Proposed Agenda: The Army Science Board FY08 studies meet on July 14, 2008 and on July 23, 2008 at the Arnold and Mabel Beckman Center in Irvine, CA. Subcommittees may meet July 15-22, as necessary. Purpose of the meetings will be to finalize findings and recommendations in preparation for the final briefout to the study sponsors and senior Army leadership on Thursday, July 24, 2008.

Filing Written Statement: Pursuant to 41 CFR 102-3.140d, the Committee is not obligated to allow the public to speak; however, interested persons may submit a written statement for consideration by the subcommittees. Individuals submitting a written statement must submit their statement to the Designated Federal Officer (DFO) at the address detailed below. Written statements not received at least 10 calendar days prior to the meeting, may not be provided to or considered by the subcommittees until its next meeting.

The DFO will review all timely submissions with the subcommittee Chairs and ensure they are provided to the specific subcommittee members before the meeting. After reviewing written comments, the subcommittee Chairs and the DFO may choose to invite the submitter of the comments to orally present their issue during a future open meeting.

The DFO, in consultation with the subcommittee Chairs, may allot a specific amount of time for the members of the public to present their issues for review and discussion. Written submissions are to be submitted to the following address: Army Science Board, ATTN: Designated Federal Officer, 2511 Jefferson Davis Highway, Suite 11500, Arlington, VA 22202-3911.

Brenda S. Bowen,
Army Federal Register Liaison Officer.

[FR Doc. E8-15326 Filed 7-3-08; 8:45 am]

BILLING CODE 3710-08-P